DEPARTMENT OF STATE

[Public Notice 5355]

30-Day Notice of Proposed Information Collection: DS 1843 and 1622, Medical History and Examination for Foreign Service, OMB 1405-0068

ACTION: Notice of request for public comment and submission to OMB of proposed collection of information.

SUMMARY: The Department of State has submitted the following information collection request to the Office of Management and Budget (OMB) for approval in accordance with the Paperwork Reduction Act of 1995.

Title of Information Collection: Medical History and Examination for Foreign Service.

OMB Control Number: 1405-0068.

Type of Request: Extension of a Currently Approved Collection.

Originating Office: Office of Medical Services, M/MED/EX.

Form Number: DS 1843 and DS-1622.

Respondents: Family members of Foreign Service Officers and Federal employees stationed abroad.

Estimated Number of Respondents: 9,800.

Estimated Number of Responses: 9,800.

Average Hours Per Response: 1.

Total Estimated Burden: 9,800 hours.

Frequency: Tour of Duty.

Obligation to Respond: Required to obtain a benefit.

DATES: Comments from the public will be accepted up to April 28, 2006.

ADDRESSES: Direct comments and questions to Alex Hunt, the Department of State Desk Officer in the Office of Information and Regulatory Affairs at the Office of Management and Budget (OMB), who may be reached at 202-395-7860. You may submit comments by any of the following methods:

E-mail: ahunt@omb.eop.gov. You must include the DS form number, information collection title, and OMB control number in the subject line of your message.

Mail (paper, disk, or CD-ROM submissions): Office of Information and Regulatory Affairs, Office of Management and Budget, 725 17th Street, NW., Washington, DC 20503.

Fax: 202-395-6974.

FOR FURTHER INFORMATION CONTACT: You may obtain copies of the proposed information collection and supporting documents from Susan Willig, Department of State, Office of Medical Services, SA-1, Room L101, 2401 E St., NW., Washington, DC 20052-0101, who may be reached on 202-663-1754 or at willigsp@state.gov.

SUPPLEMENTARY INFORMATION: We are soliciting public comments to permit the Department to:

Evaluate whether the proposed information collection is necessary to properly perform our functions.

Evaluate the accuracy of our estimate of the burden of the proposed collection, including the validity of the methodology and assumptions used.

Enhance the quality, utility, and clarity of the information to be collected.

Minimize the reporting burden on those who are to respond.

Abstract of proposed collection: Form DS-1843 and DS-1622 are designed to collect medical information that gives medical providers the current and adequate information needed to decide whether or not a Federal employee, and family members, will have sufficient medical resources at a diplomatic mission abroad.

Methodology: The information will be collected through the use of an electronic forms engine, or by hand written submission using a pre-printed form.

Dated: March 7, 2006.
Maria C. Melchiorre,
Deputy Executive Director, Office of Medical Services, Department of State.

[FR Doc. E6-4553 Filed 3-28-06; 8:45 am]

BILLING CODE 4710-36-P